ENVIRONMENTAL PROTECTION AGENCY

[ER-FRL-9040-5]

Environmental Impact Statements; Notice of Availability

Responsible Agency: Office of Federal Activities, General Information (202) 564-7156 or https://www2.epa.gov/nepa/.

Weekly receipt of Environmental Impact Statements

Filed 07/16/2018 Through 07/20/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180165, Draft, USFS, CA, Williamson Rock and Pacific Crest Trail, Comment Period Ends: 09/14/2018, Contact: Chinling Chen 626-574-5255

EIS No. 20180166, Final Supplement, FHWA, AK, Juneau Access Improvements Project, Under 23 U.S.C. 139(n)(2), FTA has issued a single document that consists of a final environmental impact statement and record of decision. Therefore, the 30-day wait/review period under NEPA does not apply to this action. Contact: Tim Haugh 907-586-7418

EIS No. 20180167, Draft, NMFS, DC, Draft Amendment 11 to the 2006 Consolidated Atlantic Highly Migratory Species Fishery Management Plan, Comment Period Ends: 10/01/2018, Contact: Guy DuBeck 301-427-8503

EIS No. 20180168, Draft, USACE, AL, Mobile Harbor, Mobile, Alabama Draft Integrated General Reevaluation Report with Supplemental, Comment Period Ends: 09/10/2018, Contact: Jennifer L. Jacobson 251-690-2724

EIS No. 20180169, Final, BLM, NV, Gold Rock Mine Project, Comment Period Ends: 08/29/2018, Contact: Maria Ryan 775-289-1888

Dated: July 24, 2018.
Kelly Knight,
Acting Director, Office of Federal Activities.

[FR Doc. 2018-16094 Filed 7-26-18; 8:45 am]

BILLING CODE 6560-50-P